DEPARTMENT OF EDUCATION

Applications for New Awards; State Tribal Education Partnership Grants to Tribal Educational Agencies

AGENCY: Office of Elementary and Secondary Education, Department of Education.

ACTION: Notice.

SUMMARY: The Department of Education (Department) is issuing a notice inviting applications for fiscal year (FY) 2020 for the State Tribal Education Partnership Grant Program (STEP), Catalog of Federal Domestic Assistance (CFDA) number 84.415A. This notice relates to the approved information collection under OMB control number 1894-0006.

DATES:

Applications Available: June 1, 2020.

Deadline for Notice of Intent to Apply: May 15, 2020.

Deadline for Transmittal of Applications: July 31, 2020.

Deadline for Intergovernmental Review: September 29, 2020.

ADDRESSES: For the addresses for obtaining and submitting an application, please refer to our Common Instructions for Applicants to Department of Education Discretionary Grant Programs, published in the Federal Register on February 13, 2019 (84 FR 3768) and available at www.govinfo.gov/content/pkg/FR-2019-02-13/pdf/2019-02206.pdf.

FOR FURTHER INFORMATION CONTACT: Shahla Ortega, U.S. Department of Education, 400 Maryland Avenue SW, Room 3W245, Washington, DC 20202-6450. Telephone: (202) 453-5602. Email: Shahla.Ortega@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The purposes of STEP are to: (1) Promote Tribal self-determination in education; (2) improve the academic achievement of Indian children and youth; and (3) promote the coordination and collaboration of Tribal educational agencies (TEAs) (as defined in this notice) with State educational agencies (SEAs) and local educational agencies (LEAs) to meet the unique education and culturally related academic needs of Indian students.

Background: STEP was authorized under section 6132 of the Elementary and Secondary Education Act, as amended (ESEA), to include one-year grants to Tribes to create TEAs (STEP Development grants) and three-year grants to TEAs to coordinate and collaborate with SEAs and LEAs (STEP grants to TEAs: Next STEP Capacity-Building Grant Program).

Our intent for this competition is to award three-year STEP grants to TEAs to directly administer education programs (as defined in this notice), build capacity to administer and coordinate education programs, and receive training and support from and provide training and support to SEAs and LEAs. In addition, we are especially interested in approaches employed by TEAs to deliver services that will expand educational options for Native students, further promoting Tribal self-determination in education. Therefore, we are including Absolute Priority 1 to support proposed projects that are designed to do one or more of the following: recruit or retain educators; build capacity to promote the availability of work-based learning experiences (such as internships, apprenticeships, and fellowships); prepare the TEA to open a new charter school; or build capacity to enable the TEA to prepare to convert a BIE-operated school to a Tribally operated school.

A TEA must submit with its application for funding an agreement (as defined in this notice) with an SEA, one or more LEAs, or both the SEA and an LEA. For the purposes of this agreement, a school funded by the Bureau of Indian Education (BIE) is considered an LEA. However, if a TEA operates a BIE-funded school, the agreement must include at least one other LEA not run by the Tribe or an SEA. The agreement must document the commitment of the TEA, SEA, and LEA to work together and must include all required elements established in this notice. Letters of support from an SEA or LEA will not meet this requirement and will not be accepted as a substitute.

Because we believe that it will be critically important for TEAs receiving a three-year STEP grant to have project leadership in place at the start of the work, projects are required to have a project director in place as soon as possible but not later than 60 days after the project start date in order to successfully meet program outcomes. In addition, an applicant TEA must submit an agreement with the appropriate SEA or LEA to implement the activities described in the application. Within 120 days of receiving the award, a grantee must make any needed updates to the agreement. We also require that a grantee report annually on project progress and that, at the end of the three-year project, each grantee must demonstrate in its final performance report that the grantee met the program objectives.

In accordance with the Department's commitment to engage in regular and meaningful consultation and collaboration with Indian Tribes (as defined in this notice), the Office of Elementary and Secondary Education's (OESE) Office of Indian Education (OIE) and the White House Initiative on American Indian and Alaska Native Education (WHIAIANE) conducted two Tribal Consultation sessions regarding the STEP program, on December 13, 2018, and February 11, 2020, respectively. Consistent with the Department's trust responsibility to Tribes and its Tribal Consultation Policy, on those two dates, OESE consulted with elected officials of federally recognized Tribes to ensure that their views inform OESE's policy decisions related to the priorities, requirements, definitions, and selection criteria that govern this competition. At the 2018 Tribal Consultation, there was significant interest in providing opportunities for Tribes that do not have a TEA to create one. So, the FY 2019 competition focused on one-year grants to Tribes that wanted to establish TEAs.

On January 11, 2020, the Department notified Tribal leaders from each of the federally recognized Indian Tribes, all Tribal College or University (TCU) presidents, current grantees under ESEA Title VI formula and discretionary grant programs, and other stakeholders of the opportunity to provide input on the FY 2020 STEP competition via an email issued through OIE's listserve. The email notification provided information on how Tribal leaders could participate in a blended in-person and virtual Tribal consultation in Washington, DC, on February 11, 2020, and provide written Tribal comment through March 12, 2020, through the tribalconsultation@ed.gov mailbox.

The Department solicited feedback on five specific questions as part of this Tribal consultation. There were 60 total participants in attendance either in-person or virtually, and two written comments were submitted. A summary of the feedback to these questions and how the Department incorporated this feedback into the FY 2020 STEP notice inviting applications (NIA) follows.

The Department first asked: “When partnering with SEAs and LEAs, what kinds of education programs are you most interested in administering? ESEA formula grants, State grants, local grants?” The options for this multiple-choice question included formula grants under Title VI of the ESEA, other ESEA formula grants, State grants, and local grants.

Consultation participants, both in person, virtually, and via written comments, expressed significant interest in administering education programs, including interest in directly administering formula grants under Title VI of the ESEA and other ESEA programs including Title I, Part A (Improving the Academic Achievement of the Disadvantaged—Improving Basic Programs Operated by Local Educational Agencies); Title I, Part D (Prevention and Intervention Programs for Children and Youth Who Are Neglected, Delinquent, or At-Risk); Title II (Preparing, Training, and Recruiting High-Quality Teachers, Principals, or Other School Leaders); the 21st Century Community Learning Center grant under Title IV; and the Rural and Low-Income School grant under Title V. Consultation participants also expressed interest in administering various State and local grants.

The Department elaborated on this question by asking, “What actions do you want to take as part of directly administering education programs?” Consultation participants offered actions including training school staff on culturally responsive and trauma-informed teaching, partnering with SEA staff, directing funding to close achievement and opportunity gaps, and holding public schools more accountable for the performance of American Indian students.

Next, the Department asked “What kind of evidence should the Department require to meet the requirement that an applicant show evidence of existing capacity? Is having a Tribal Education Code enough evidence to demonstrate capacity of an applicant?” Consultation participants indicated that having a Tribal Education Code may be one element of demonstrating evidence of capacity but that alone is not sufficient. Other evidence of capacity may include implementation of standard operating procedures of the TEA, three to five years of “clean audits,” Tribal consultation between the TEA and LEAs, and a prior written agreement between the TEA and LEA and/or SEA. We have taken this feedback into account in our definitions of “established TEA” and “existing capacity” in this NIA.

Third, the Department asked “Are you interested in using a STEP grant to build capacity to expand educational options, such as expanding Tribal control over existing schools that serve Tribal students or opening new Tribally-operated schools, including new charter schools, in addition to the required activities (directly administering programs, building capacity, two-way training and support)? If yes, are you interested in any of the following options? (1) Taking over an existing school? (2) Opening a new school? Or (3) Other option?” In response, the vast majority of consultation participants indicated interest in building capacity to expand educational options. Consultation participants expressed notable interest in opening new schools, such as charter schools or Tribal compact schools. We have incorporated feedback from Tribal consultation in the absolute priority for this competition that emphasizes building capacity to expand educational options, which may include opening new schools.

Next the Department asked “Are you interested in using a STEP grant to build capacity to promote the availability of work-based learning experiences, such as by establishing partnerships to support internships, apprenticeships, or other career pathways, in addition to the required activities (directly administering programs, building capacity, two-way training and support)? If yes, which work-based learning experiences are you interested in building capacity to promote: (1) Internships; (2) Apprenticeships; (3) Other career pathways?” All consultation participants indicated interest in building capacity to promote the availability of work-based learning experiences except one participant who was not sure; no participants said that they were not interested. One consulation participant was especially interested in using STEP funds to build capacity in this area. We have incorporated feedback from Tribal consultation in the absolute priority for this competition that emphasizes building capacity to expand educational options in one or more of several ways, which may include building capacity to promote work-based learning experiences.

Finally, the Department asked “Are you interested in using a STEP grant to recruit and retain educators, including by offering support for transportation or housing, in addition to the required activities (directly administering programs, building capacity, two-way training and support)? If yes, which supports might you want to offer: (1) Transportation; (2) Housing; (3) Other?” All consultation participants indicated interest in building capacity to recruit and retain educators. We have incorporated this Tribal input into the design of Absolute Priority 1.

Priorities: This notice contains three absolute priorities and one competitive preference priority. We are establishing these priorities for the FY 2020 grant competition and any subsequent year in which we make awards from the list of unfunded applications from this competition, in accordance with section 437(d)(1) of the General Education Provisions Act (GEPA), 20 U.S.C. 1232(d)(1).

Absolute Priorities: For FY 2020 and any subsequent year in which we make awards from the list of unfunded applications from this competition, these priorities are absolute priorities. Under 34 CFR 75.105(c)(3) we consider only applications that meet Absolute Priority 1 and either Absolute Priority 2 or 3.

Note: The Department intends to create two funding slates—one for applicants that meet Absolute Priorities 1 and 2 and another for applicants that meet Absolute Priorities 1 and 3. As a result, the Department may fund applications out of the overall rank order, provided applications of sufficient quality are submitted, but the Department is not bound to do so. Applicants must clearly identify the specific absolute priorities that the proposed project addresses in the project abstract.

These priorities are:

Absolute Priority 1—Building capacity to administer and coordinate education programs.

Applicants must propose a project, and include a plan and timeline, that is designed to do one or more of the following:

(a) Recruit or retain educators, including by supplementing efforts to recruit or retain educators employed by the TEA or by a partnering LEA.

(b) Promote the availability of work-based learning experiences (such as internships, apprenticeships, and fellowships) or career exploration opportunities for elementary and secondary students served by the TEA that align with in-demand industry sectors or occupations (as defined in section 3(23) of the Workforce Innovation and Opportunity Act of 2014), without providing direct services.

(c) For a TEA located in a State with a State statute specifically authorizing the establishment of charter schools, build TEA capacity necessary to open a new charter school, including a Tribally authorized charter school, such as by developing the charter school concept; writing a mission statement; defining an educational model; establishing a governance structure; developing a budget; establishing curriculum; choosing a location; developing partnerships with key stakeholders; or developing other materials related to applying for a charter from the appropriate authorizing entity.

(d) Build TEA capacity necessary to convert a BIE-operated school to a BIE-funded Tribally-operated school, such as by developing structures necessary to ensure smooth transition of instruction; ensuring necessary and appropriate facilities; developing processes and procedures for oversight of funds and compliance with statute and regulations; and preparing to hire teachers and staff.

Absolute Priority 2—Established TEAs.

To meet this priority, a TEA must be an established TEA (as defined in this notice).

Absolute Priority 3—TEAs with limited prior experience.

To meet this priority, a TEA must have limited prior experience, which means that the TEA is not an established TEA.

Competitive Preference Priority: For FY 2020 and any subsequent year in which we make awards from the list of unfunded applications from this competition, this priority is a competitive preference priority. Under 34 CFR 75.105(c)(2)(i) we award zero or five points to an application, depending on whether the application meets this priority.

This priority is:

New Three-Year STEP Grantee (0 or 5 points).

Any applicant for a STEP grant that did not receive a STEP award from the Department in the FY 2012 or FY 2015 competitions.

Requirements: We are establishing these application and program requirements for the FY 2020 grant competition, and any subsequent year in which we make awards from the list of unfunded applications from this competition, in accordance with section 437(d)(1) of GEPA, 20 U.S.C. 1232(d)(1). We have indicated the source of the requirement in a parenthetical following the requirement.

Application Requirements: Each application must contain the following:

(a) A signed agreement, with the appropriate SEA, one or more LEAs, or both the SEA and an LEA. (ESEA Section 6132(d)(2)(C)(i))

Note: While an applicant may submit an agreement that includes multiple SEAs or LEAs, no additional consideration will be given to a project for doing so.

(b) Evidence of the TEA's existing capacity (as defined in this notice). (ESEA Section 6132(d)(2)(C)(ii))

(c) A detailed budget, including a budget narrative, adequate to complete the activities proposed in the STEP application, including funds requested in this application and specific information related to any other resources available to support the project. (Section 437(d)(1) of GEPA, 20 U.S.C. 1232(d)(1))

(d) An explanation of how the STEP funds will be used to build on existing activities or add new activities rather than replace Tribal or other funds. (Section 437(d)(1) of GEPA, 20 U.S.C. 1232(d)(1))

(e) Evidence that the applicant has consulted with other education entities, if any, within the territorial jurisdiction of the applicant that will be affected by the activities to be conducted under the grant. (ESEA Section 6132(d)(3)(A))

(f) A plan for ongoing consultation with other education entities regarding the operation and evaluation of the activities conducted under the grant. (ESEA Section 6132(d)(3)(B))

(g) A description of the method to be used for evaluating the effectiveness of the activities for which assistance is sought and for determining whether such objectives are achieved. (ESEA Section 6132(d)(2)(B))

(h) Written assurance that—

(1) The applicant will not use funds to provide direct services (ESEA Section 6132(e)(2)); and

(2) The applicant does not receive funds from the BIE Tribal Education Department (TED) grant funds under section 1140 of the Education Amendments of 1978 (25 U.S.C. 2020). (ESEA Section 6132(e)(1))

Program Requirements: Applicants that receive grants under this program must meet the following program requirements:

(a) Hire a project director as soon as possible but no later than 60 days after the beginning of the performance period. (Section 437(d)(1) of GEPA, 20 U.S.C. 1232(d)(1))

(b) Finalize and sign any updates to the agreement with the partnering SEA(s) and LEA(s) within 120 days after the project start date. (Section 437(d)(1) of GEPA, 20 U.S.C. 1232(d)(1))

(c) Directly administer education programs (as defined in this notice), which may include formula grant programs under ESEA, consistent with State law and under a written agreement between the parties. (ESEA Section 6132(c)(2)(A))

(d) Build capacity to administer and coordinate such education programs, and to improve the relationship and coordination between the TEA and the SEA(s) and LEA(s) that educate students from the Tribe. (ESEA Section 6132(c)(2)(B))

(e) Receive training and support from the SEA(s) and LEA(s), in areas such as data collection and analysis, grants management and monitoring, fiscal accountability, and other areas as needed. (ESEA Section 6132(c)(2)(C))

(f) Train and support the SEA(s) and LEA(s) in areas related to Tribal history, language, and culture. (ESEA Section 6132(c)(2)(D))

(g) Build on existing activities or resources rather than replacing other funds. (ESEA Section 6132(c)(2)(E))

(h) Carry out other activities consistent with the purposes of the program. (ESEA Section 6132(c)(2)(F))

(i) Comply with the Indian Self-Determination and Education Assistance Act (ISDEAA) hiring preference, which provides that awards that are primarily for the benefit of Indians ¹ are subject to the provisions of section 7(b) of the ISDEAA. That section requires that, to the greatest extent feasible, a grantee give to—

¹ For purposes of this paragraph (i), an Indian is a member of any federally recognized Indian Tribe.

(1) Indians preferences and opportunities for training and employment in connection with the administration of the grant; and

(2) Indian organizations and to Indian-owned economic enterprises, as defined in section 3 of the Indian Financing Act of 1974 (25 U.S.C. 1452(e)), preference in the award of contracts in connection with the administration of the grant.

Definitions: The definitions of “Indian Tribe” and “Tribal educational agency” are from section 6132 of the ESEA. The definitions of “project component” and “relevant outcome” are from 34 CFR 77.1(c). We are establishing the definitions of “agreement,” “directly administer education programs,” “education program,” “established TEA,” “existing capacity,” “LEA-type function,” and “SEA-type function,” for the FY 2020 grant competition, and any subsequent year in which we make awards from the list of unfunded applications from this competition, in accordance with section 437(d)(1) of GEPA, 20 U.S.C. 1232(d)(1). The following definitions apply to this competition:

Agreement means a signed written agreement between the TEA and one SEA; the TEA and one or more LEAs; or the TEA and both an SEA and one or more LEAs, that documents the commitment of the TEA, SEA, and LEA, as applicable, to work together. For the purposes of this agreement, a BIE-funded school is considered an LEA. If a TEA operates a BIE-funded school, such agreement must include at least one other LEA not run by the Tribe or an SEA.

The agreement must include—

(1) An explanation of how the parties will work collaboratively to directly administer education programs, including ESEA formula grant programs, consistent with State law and under written agreement between the parties;

(2) A description of the primary SEA-type functions (as defined in this notice) or LEA-type functions (as defined in this notice) that the TEA will assume;

(3) The training and other activities that the SEA or LEA, as appropriate, will provide for the TEA to gain the knowledge and skills needed to administer education programs in areas such as data collection and analysis, grants management and monitoring, fiscal accountability, and other areas as needed;

(4) The assistance that the TEA will provide to the SEA or LEA, as appropriate, to facilitate the project, in areas related to Tribal history, language, and culture; and

(5) A statement concerning student data that commits the parties to making their best efforts to reach consensus and finalize agreement, within 90 days after the start of the project, on a provision on data sharing that is consistent with FERPA, if data sharing is required by the project design;

(6) The goals, objectives, and outcomes to be achieved by the proposed project that are clearly specified and measurable;

(7) A timetable for accomplishing each of the objectives and activities that the applicant will undertake to achieve the program outcomes in the program requirements; and

(8) An assurance that all relevant parties will participate in each Tribal consultation required under Federal education programs.

Directly administer education programs means conducting SEA-type functions or LEA-type functions for education programs, including ESEA formula grant programs, consistent with State law and under the agreement.

Education program means any Federal, State, local, or private education program that supports elementary or secondary students.

Established TEA means a TEA that—

(1) Previously received a STEP grant in 2012 or 2015; or

(2) Has an existing prior relationship with an SEA or LEA as evidenced by a prior written agreement between the TEA and SEA or LEA, and meets two or more of the following criteria:

(i) Has an existing Tribal education code.

(ii) Has administered at least one education program within the past five years.

(iii) Has administered at least one Federal, State, local, or private grant within the past five years.

Existing capacity means meeting two or more of the following criteria:

(1) Has an existing Tribal education code.

(2) Has established standard operating procedures related to elementary or secondary education operations.

(3) Has administered at least one education program within the past five years.

(4) Has administered at least one Federal, State, local, or private grant within the past five years, which may include a one-year STEP Development grant received in 2019.

Indian Tribe means a federally-recognized or a State-recognized Tribe.

LEA-type function means the type of activity that LEAs typically conduct, such as direct provision of educational services to students, grant implementation, school district curriculum development, staff professional development pursuant to State guidelines, and data submissions.

Project component means an activity, strategy, intervention, process, product, practice, or policy included in a project. Evidence may pertain to an individual project component or to a combination of project components (e.g., training teachers on instructional practices for English learners and follow-on coaching for these teachers).

Relevant outcome means the student outcome(s) or other outcome(s) the key project component (as defined in this notice) is designed to achieve, consistent with the specific goals of the program.

SEA-type function means the type of activity that SEAs typically conduct, such as overall education policy development, supervision and monitoring of school districts, provision of technical assistance to districts, statewide curriculum development, collecting and analyzing performance data, and evaluating programs.

Tribal educational agency (TEA) means the agency, department, or instrumentality of an Indian Tribe that is primarily responsible for supporting Tribal students' elementary and secondary education.

Note: For purposes of this program, this term also includes an agency, department, or instrumentality of more than one Tribe, if the Tribes are in close geographic proximity to each other.

Waiver of Proposed Rulemaking: Under the Administrative Procedure Act (5 U.S.C. 553) the Department generally offers interested parties the opportunity to comment on proposed priorities, requirements, and definitions. Section 437(d)(1) of GEPA, however, allows the Secretary to exempt from rulemaking requirements regulations governing the first grant competition under a new or substantially revised program authority. This is the first grant competition for this program under section 6132 of the ESEA (20 U.S.C. 7452), and, therefore, qualifies for this exemption. In order to ensure timely grant awards, the Secretary has decided to forgo public comment on the priorities, requirements, and definitions under section 437(d)(1) of GEPA. These priorities, requirements, and definitions will apply to the FY 2020 competition, and any subsequent year in which we make awards from the list of unfunded applications from this competition.

Program Authority: Section 6132(c)(2) of the ESEA, Grants To Tribes For Education, Administrative Planning, Development, And Coordination, 20 U.S.C. 7452.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

Note: The regulations in 34 CFR part 79 apply to all applicants except federally recognized Indian Tribes.

II. Award Information

Type of Award: Discretionary grants.

Estimated Available Funds: $1.5 to $2 million.

Contingent upon the availability of funds and the quality of applications, we may make additional awards in subsequent years from the list of unfunded applications from this competition.

Estimated Range of Awards: $300,000 to $500,000.

Estimated Average Size of Awards: $400,000.

Estimated Number of Awards: 4-6.

Note: The Department is not bound by any estimates in this notice.

Project Period: Up to three years.

III. Eligibility Information

1. Eligible Applicants: TEAs, including a consortium of TEAs. An Indian Tribe that receives funds from the BIE under section 1140 of the Education Amendments of 1978 (25 U.S.C. 2020) is not eligible to receive funds under this program.

2. a. Cost Sharing or Matching: This program does not require cost sharing or matching.

b. Supplement-Not-Supplant: This program involves supplement-not-supplant funding requirements.

3. Subgrantees: A grantee under this competition may not award subgrants to entities to directly carry out project activities described in its application.

IV. Application and Submission Information

1. Application Submission Instructions: Applicants are required to follow the Common Instructions for Applicants to Department of Education Discretionary Grant Programs, published in the Federal Register on February 13, 2019 (84 FR 3768), and available at www.govinfo.gov/content/pkg/FR-2019-02-13/pdf/2019-02206.pdf, which contain requirements and information on how to submit an application.

Grants.gov has relaxed the requirement for applicants to have an active registration in the System for Award Management (SAM) in order to apply for funding during the COVID-19 pandemic. An applicant that does not have an active SAM registration can still register with Grants.gov, but must contact the Grants.gov Support Desk, toll-free, at 1-800-518-4726, in order to take advantage of this flexibility.

2. Intergovernmental Review: This program is subject to Executive Order 12372 and the regulations in 34 CFR part 79. Information about Intergovernmental Review of Federal Programs under Executive Order 12372 is in the application package for this program.

3. Funding Restrictions: Funding restrictions are outlined in section 6132 (20 U.S.C.7452(3)(e)): (1) An Indian Tribe may not receive funds under this section if such Tribe receives funds under section 1140 of the Education Amendments of 1978 (20 U.S.C. 2020); and (2) no funds under this section may be used to provide direct services. We reference additional regulations outlining funding restrictions in the Applicable Regulations section of this notice.

4. Recommended Page Limit: The application narrative is where you, the applicant, address the selection criteria that reviewers use to evaluate your application. We recommend that you (1) limit the application narrative to no more than 50 pages and (2) use the following standards:

• A “page” is 8.5″ x 11″, on one side only, with 1″ margins at the top, bottom, and both sides.

• Double-space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The recommended page limit does not apply to the cover sheet; the budget section, including the narrative budget justification; the assurances and certifications; or the one-page abstract, the resumes, the bibliography, or the letters of support. However, the recommended page limit does apply to all of the application narrative.

5. Notice of Intent to Apply: The Department will be able to review grant applications more efficiently if we know the approximate number of applicants that intend to apply. Therefore, we strongly encourage each potential applicant to notify us of their intent to submit an application. To do so, please email the program contact person listed under FOR FURTHER INFORMATION CONTACT with the subject line “Intent to Apply,” and include the applicant's name and a contact person's name and email address. Applicants that do not submit a notice of intent to apply may still apply for funding; applicants that do submit a notice of intent to apply are not bound to apply or bound by the information provided.

V. Application Review Information

1. Selection Criteria: The selection criteria for this program are from 34 CFR 75.210. We will award up to 100 points to an application under the selection criteria; the total possible points for each selection criterion are noted in parentheses.

(a) Quality of the Project Design. (Maximum 30 points). The Secretary considers the quality of the design of the proposed project. In determining the quality of the design of the proposed project, the Secretary considers the following factors:

(1) The extent to which the goals, objectives, and outcomes to be achieved by the proposed project are clearly specified and measurable. (up to 10 points)

(2) The extent to which the proposed project is designed to build capacity and yield results that will extend beyond the period of Federal financial assistance. (up to 10 points)

(3) The extent to which the proposed project will integrate with or build on similar or related efforts to improve relevant outcomes (as defined in this notice), using existing funding streams from other programs or policies supported by community, State, and Federal resources. (up to 10 points)

(b) Quality of Project Services. (Maximum 20 points). The Secretary considers the quality of the services to be provided by the proposed project. In determining the quality of project services of the proposed project, the Secretary considers the following factors:

(1) The quality and sufficiency of strategies for ensuring equal access and treatment for eligible project participants who are members of groups that have traditionally been underrepresented based on race, color, national origin, gender, age, or disability. (up to 5 points).

(2) The extent to which the services to be provided by the proposed project involve the collaboration of appropriate partners for maximizing the effectiveness of project services. (up to 15 points)

(c) Adequacy of Resources. (Maximum 30 points). The Secretary considers the adequacy of resources for the proposed project. In determining the adequacy of resources for the proposed project, the Secretary considers:

(1) The adequacy of support, including facilities, equipment, supplies, and other resources, from the applicant organization or the lead applicant organization. (up to 5 points)

(2) The qualifications, including relevant training and experience, of the project director or principal investigator. (up to 10 points)

(3) The potential for continued support of the project after Federal funding ends, including, as appropriate, the demonstrated commitment of appropriate entities to such support. (up to 5 points)

(4) The extent to which the budget is adequate to support the proposed project. (up to 10 points)

(d) Quality of the Management Plan. (Maximum 20 points). The Secretary considers the quality of the management plan for the proposed project. In determining the quality of the management plan for the proposed project, the Secretary considers the extent to which the time commitments of the project director and principal investigator and other key project personnel are appropriate and adequate to meet the objectives of the proposed project. (up to 20 points)

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Risk Assessment and Specific Conditions: Consistent with 2 CFR 200.205, before awarding grants under this program, the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case, the Secretary establishes a data collection period.

5. Performance Measures: Note: All grantees will report on measures a, b and c. A grantee will report on measures d, e, f and g, based on the part(s) of Absolute Priority 1 addressed in its application.

(a) The number of capacity building activities offered by the TEA for the SEA or LEA (e.g., trainings, technical assistance in areas related to tribal history, language, or culture).

(b) The number of capacity building activities offered by the SEA or LEA for the TEA (e.g., trainings, technical assistance in developing TEA capacity to administer and coordinate education programs).

(c) The number of education programs grantees directly administer.

(d) The number of teachers recruited or retained to serve students the TEA serves as a result of the STEP grant.

(e) The number of work-based learning experience programs created as a result of the capacity built using the STEP grant.

(f) The number of TEA actions taken to build capacity to open a charter school, such as by developing the charter school concept; writing a mission statement; defining an educational model; establishing a governance structure; developing a budget; establishing curriculum; choosing a location; developing partnerships with key stakeholders; or developing other materials related to applying for a charter from the appropriate authorizing entity.

(g) The number of TEA actions taken to build capacity to convert a BIE-operated school to a BIE-funded Tribally-operated school, such as by developing structures necessary to ensure smooth transition of instruction; ensuring necessary and appropriate facilities; developing processes and procedures for oversight of funds and compliance with statute and regulations; and preparing to hire teachers and staff.

6. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Frank T. Brogan,
Assistant Secretary for Elementary and Secondary Education.

[FR Doc. 2020-11729 Filed 5-29-20; 8:45 am]

BILLING CODE 4000-01-P